DEPARTMENT OF HOMELAND SECURITY

U.S. Customs and Border Protection

Trade Facilitation and Cargo Security Summit 2023

AGENCY: U.S. Customs and Border Protection, Department of Homeland Security.

ACTION: Notice of 2023 Trade Facilitation and Cargo Security Summit.

SUMMARY: This document announces that U.S. Customs and Border Protection (CBP) will convene the 2023 Trade Facilitation and Cargo Security (TFCS) Summit in Boston, MA, on April 17-19, 2023. The 2023 TFCS Summit will be open for the public to attend in person or via webinar. The 2023 TFCS Summit will feature CBP personnel, members of the trade community, and members of other government agencies in panel discussions on CBP's role in international trade initiatives and programs. Members of the international trade and transportation communities and other interested parties are encouraged to attend.

DATES: Monday, April 17, 2023 (opening remarks and general sessions, 8:00 a.m.-5:00 p.m. EDT), and Tuesday, April 18 and Wednesday, April 19, 2023 (breakout sessions, 8:00 a.m.-5:00 p.m. EDT).

ADDRESSES: The 2023 Trade Facilitation and Cargo Security Summit will be held at the Omni Boston Hotel at the Seaport at 450 Summer St, Boston, MA 02210. Directional signage will be displayed throughout the event space for registration, the sessions, and the exhibits.

Registration: Registration is open and will close on Thursday, April 6 at 4:00 p.m. EDT. Registration information may be found on the event web page at https://www.cbp.gov/trade/stakeholder-engagement/trade-facilitation-and-cargo-security-summit. All registrations must be made online and will be confirmed with payment by credit card only. The registration fee to attend in person is $320.00 per person. The registration fee to attend via webinar is $24.00. Interested parties are requested to register immediately as space is limited. Members of the public who are pre-registered to attend and later need to cancel, may do so by using the link from their confirmation email or sending an email to TFCSSummit@cbp.dhs.gov. Please include your name and confirmation number with your cancellation request. Cancellation requests made after Friday, March 24, 2023, will not receive a refund.

FOR FURTHER INFORMATION CONTACT: Mrs. Daisy Castro, Office of Trade Relations, U.S. Customs and Border Protection at (202) 344-1440 or at TFCSSummit@cbp.dhs.gov. The most current 2023 TFCS Summit information can be found at https://www.cbp.gov/trade/stakeholder-engagement/trade-facilitation-and-cargo-security-summit.

For information on facilities or services for individuals with disabilities or to request special assistance at the meeting, please contact Mrs. Daisy Castro, Office of Trade Relations, U.S. Customs and Border Protection at (202) 344-1440 or at TFCSSummit@cbp.dhs.gov, as soon as possible.

SUPPLEMENTARY INFORMATION: This document announces that U.S. Customs and Border Protection (CBP) will convene the 2023 Trade Facilitation and Cargo Security (TFCS) Summit in Boston, MA on April 17-19, 2023. The format of the 2023 TFCS Summit will consist of general sessions on the first day and breakout sessions on the second and third days. The 2023 TFCS Summit will feature panels composed of CBP personnel, members of the trade community, and members of other government agencies. The panel discussions will address the Customs Trade Partnership Against Terrorism (CTPAT), the Uyghur Forced Labor Prevention Act (UFLPA), the 21st Century Customs Framework (21CCF), the Automated Commercial Environment (ACE) 2.0, and other topics. The 2023 TFCS Summit agenda can be found on the CBP website: https://www.cbp.gov/trade/stakeholder-engagement/trade-facilitation-and-cargo-security-summit.

Hotel accommodations have been made at the Omni Boston Hotel at the Seaport at 450 Summer Street, Boston, MA 02210. Hotel room block reservation information can be found on the event web page at https://www.cbp.gov/trade/stakeholder-engagement/trade-facilitation-and-cargo-security-summit.

Dated: March 21, 2023.
Felicia M. Pullam,
Executive Director, Office of Trade Relations.

[FR Doc. 2023-06152 Filed 3-23-23; 8:45 am]

BILLING CODE P